DEPARTMENT OF TRANSPORTATION

Surface Transportation Board

[Docket No. FD 35808]

BNSF Railway Company—Temporary Trackage Rights Exemption—Union Pacific Railroad Company

Union Pacific Railroad Company (UP), pursuant to a written trackage rights agreement dated March 1, 2014, has agreed to grant local trackage rights ¹ to BNSF Railway Company (BNSF) over UP rail lines located between: (1) UP milepost 93.2 at Stockton, Cal., on UP's Oakland Subdivision, and UP milepost 219.4 at Elsey, Cal., on UP's Canyon Subdivision, a distance of 126.2 miles; and (2) UP milepost 219.4 at Elsey, Cal., and UP milepost 280.7 at Keddie, Cal., on UP's Canyon Subdivision, a distance of 61.3 miles.

¹ BNSF states that the trackage rights being granted here are only temporary rights, but, because they are “local” rather than “overhead” rights, they do not qualify for the Board's class exemption for temporary trackage rights at 49 CFR 1180.2(d)(8). See R.R. Consolidation Procedures, 6 S.T.B. 910 (2003). Therefore, BNSF concurrently filed a petition for partial revocation of this exemption in BNSF Railway Company—Temporary Trackage Rights Exemption—Union Pacific Railroad Company, Docket No. FD 35808 (Sub-No. 1), wherein BNSF requests that the Board permit the proposed trackage rights arrangement described in the present proceeding to expire at midnight on October 31, 2014, as provided in the parties' agreement. That petition will be addressed by the Board in a separate decision.

The transaction may be consummated on March 30, 2014, the effective date of the exemption (30 days after the exemption is filed).

The purpose of this transaction is to allow BNSF to move empty and loaded ballast trains to and from the ballast pit at Elsey, Cal., which is adjacent to the UP rail line. The trackage rights are temporary in nature and are scheduled to expire at midnight on October 31, 2014.

As a condition to this exemption, any employee affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If it contains false or misleading information, the exemption is void ab initio. Petitions to revoke the exemption under 49 U.S.C. 10502(d) may be filed at any time. The filing of a petition to revoke will not automatically stay the effectiveness of the exemption. Stay petitions must be filed by March 21, 2014 (at least 7 days before the exemption becomes effective).

An original and 10 copies of all pleadings, referring to Docket No. FD 35808, must be filed with the Surface Transportation Board, 395 E Street SW., Washington, DC 20423-0001. In addition, a copy of each pleading must be served on Karl Morell, Of Counsel, Ball Janik LLP, Suite 225, 655 Fifteenth St. NW., Washington, DC 20005.

Board decisions and notices are available on our Web site at “www.stb.dot.gov.”

Decided: March 10, 2014.
By the Board, Rachel D. Campbell, Director, Office of Proceedings.
Derrick A. Gardner,
Clearance Clerk.

[FR Doc. 2014-05579 Filed 3-13-14; 8:45 am]

BILLING CODE 4915-01-P